DEPARTMENT OF LABOR

Employment and Training Administration

[Docket No. NAFTA-05682]

Parallax Power Components LLC, Magnetek, Inc., Goodland, IN; Amended Certification Regarding Eligibility To Apply for NAFTA-Transitional Adjustment Assistance

In accordance with section 250(A), subchapter D, chapter 2, Title II, of the Trade Act of 1974 (19 U.S.C. 2273) the Department of Labor issued a Certification for NAFTA Transitional Adjustment Assistance on January 16, 2002, applicable to workers of Parallax Power Components LLC, Goodland, Indiana. The notice was published in the Federal Register on January 31, 1002 (67 FR 4751).

At the request of the company, the Department reviewed the certification for workers of the subject firm. The workers are engaged in the production of transformers. New information shows that Parallax Power Components purchased the Goodland, Indiana location of MagneTek, Inc., on June 29, 2001.

Information also shows that some workers separated from employment at the subject firm had their wages reported under a separated unemployment insurance (UI) tax account for Parallax Power Components LLC, MagneTek, Inc.

Accordingly, the Department is amending the certification to properly reflect this matter.

The intent of the Department's certification is to include all workers of Parallax Power Components LLC, Goodland, Indiana who were adversely affected by company imports from Mexico and a shift in production of transformers.

The amended notice applicable to NAFTA—05682 is hereby issued as follows:

All workers of Parallax Power Components LLC, MagneTek, Inc., Goodland, Indiana who became totally or partially separated from employment on or after December 14, 2000, through January 16, 2004, are eligible to apply for NAFTA-TAA under Section 250 of the Trade Act of 1974.

Signed at Washington, DC this 6th day of March, 2002.
Linda G. Poole,
Certifying Officer, Division of Trade Adjustment Assistance.

[FR Doc. 02-6666 Filed 3-19-02; 8:45 am]

BILLING CODE 4510-30-M